FEDERAL MARITIME COMMISSION

Ocean Transportation Intermediary License Reissuance

Notice is hereby given that the following Ocean Transportation Intermediary licenses has been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License No. | Name/Address | Date reissued
1803N | Blue Sky Blue Sea, Inc. dba American Export Lines dba International Shipping Company, 12919 S. Figueroa Street, Los Angeles, CA 90061 | March 29, 2003.
17663N | Data Cargo Co., Inc., 8757 NW 35th Lane, Miami, FL 33172 | December 8, 2002.
4622N | E & M International L.L.C. dba Worldwide Transport, 5304 W. 135th Street, Hawthorne, CA 90250 | March 23, 2003.
11296N | Master Air Cargo, Inc., 8030 NW 29th Street, Miami, FL 33122 | March 27, 2003.
16887F | Promax Automotive, Inc., 6722 Orangethorpe Avenue, Suite 175, Buena Park, CA 90622 | April 9, 2003.

Sandra L. Kusumoto,
Director, Bureau of Consumer Complaints and Licensing.

[FR Doc. 03-12035 Filed 5-13-03; 8:45 am]

BILLING CODE 6730-01-P